DEPARTMENT OF AGRICULTURE

Office of the Secretary

Meeting Notice of the National Agricultural Research, Extension, Education, and Economics Advisory Board

AGENCY: Research, Education, and Economics, USDA.

ACTION: Notice of public meeting.

SUMMARY: In accordance with the Federal Advisory Committee Act, the National Agricultural Research, Extension, and Teaching Policy Act of 1977, and the Agriculture Improvement Act of 2018, the United States Department of Agriculture (USDA) announces a meeting of the National Agricultural Research, Extension, Education, and Economics Advisory Board.

DATES: The National Agricultural Research Extension, Education, and Economics Advisory Board will meet virtually by telephone conference on July 7-9, 2020, from 11:00 a.m.-3:00 p.m. Eastern Daylight Time (EDT). The public may file written comments before or up to July 23, 2020.

ADDRESSES: The meeting will take place virtually via Zoom. Dial-in options will be available.

Web Preregistration: Participants wishing to participate may preregister by emailing the NAREEE Advisory Board at nareee@ars.usda.gov. Upon registration you will receive a unique link, call-in number, and access code.

Written comments may be sent to The National Agricultural Research, Extension, Education, and Economics Advisory Board Office, Room 332A, Whitten Building, United States Department of Agriculture, STOP 0321, 1400 Independence Avenue SW, Washington, DC 20250-0321. Due to COVID-19, we recommend you email comments to nareeeab@ars.usda.gov.

FOR FURTHER INFORMATION CONTACT: Michele Esch, Executive Director/Designated Federal Official, or Shirley Morgan-Jordan, Program Support Coordinator, National Agricultural Research, Extension, Education, and Economics Advisory Board; telephone: (202) 720-3684 or email: nareee@ars.usda.gov.

SUPPLEMENTARY INFORMATION:

Purpose of the meeting: To provide advice and recommendations on the top priorities and policies for food and agricultural research, education, extension, and economics. The focus of this meeting will be on the deliberation of the report and recommendations of the relevance and adequacy review of the climate and energy needs programs of the USDA Research, Education, and Extension mission area and the Cooperative Extension activities of the land-grant university system. The Board will also hear from REE leadership and receive updates from the subcommittees of the Board. A detailed agenda may be received from the contact person identified in this notice or at https://nareeeab.ree.usda.gov/meetings/general-meetings.

Tentative Agenda: On Tuesday, July 7, 2020 through Thursday, July 9, 2020, the meeting will be held from 11:00 a.m. EDT until 3:00 p.m. EDT.

Public Participation: This meeting is open to the public via internet and telephone and any interested individuals wishing to attend. Opportunity for public comment will be offered. To attend the meeting via telephone and/or make oral statements regarding any items on the agenda, you must contact Michele Esch or Shirley Morgan-Jordan at email: nareee@ars.usda.gov at least 5 business days prior to the meeting. Members of the public will be heard in the order in which they sign up at the beginning of the meeting. The Chair will conduct the meeting to facilitate the orderly conduct of business. Written comments by attendees or other interested stakeholders will be welcomed for the public record before and up to two weeks following the Board meeting (or by close of business Thursday, July 23, 2020). All written statements must be sent to Michele Esch, Designated Federal Officer and Executive Director, National Agricultural Research, Extension, Education, and Economics Advisory Board, U.S. Department of Agriculture, Room 332A, Jamie L. Whitten Building, Mail Stop 0321, 1400 Independence Avenue SW, Washington, DC 20250-0321; or email: nareee@ars.usda.gov. All statements will become a part of the official record of the National Agricultural Research, Extension, Education, and Economics Advisory Board and will be kept on file for public review in the Research, Education, and Economics Advisory Board Office.

Cikena Reid,
Committee Management Officer, U.S. Department of Agriculture.

[FR Doc. 2020-12966 Filed 6-15-20; 8:45 am]

BILLING CODE 3410-03-P